DEPARTMENT OF COMMERCE

International Trade Administration

[A-570-060, A-533-875, A-580-893, A-583-860]

Fine Denier Polyester Staple Fiber From the People's Republic of China, India, the Republic of South Korea, and Taiwan: Final Results of Expedited First Sunset Reviews of the Antidumping Duty Orders

AGENCY: Enforcement and Compliance, International Trade Administration, Department of Commerce.

SUMMARY: As a result of these expedited sunset reviews, the U.S. Department of Commerce (Commerce) finds that revocation of the antidumping duty (AD) orders on fine denier polyester staple fiber (fine denier PSF) from the People's Republic of China (China), India, the Republic of Korea (South Korea), and Taiwan would likely lead to continuation or recurrence of dumping at the levels indicated in the “Final Results of Sunset Reviews” section of this notice.

DATES: Applicable June 8, 2023.

FOR FURTHER INFORMATION CONTACT: Luke Caruso, AD/CVD Operations, Office IV, Enforcement and Compliance, International Trade Administration, U.S. Department of Commerce, 1401 Constitution Avenue NW, Washington, DC 20230; telephone: (202) 482-2081.

SUPPLEMENTARY INFORMATION:

Background

After Commerce initiated these sunset reviews ¹ of the Orders,² pursuant to section 751(c) of the Tariff Act of 1930, as amended (the Act), domestic interested parties ³ timely submitted complete notices of intent to participate in,⁴ and adequate substantive responses regarding, the reviews.⁵ The domestic interested parties claimed domestic interested party status under section 771(9)(C) of the Act as producers of the domestic like product in the United States.⁶ Commerce did not receive a substantive response from any respondent interested party, nor was a hearing requested. On March 23, 2023, Commerce notified the International Trade Commission that it did not receive adequate substantive responses from respondent interested parties.⁷ As a result, pursuant to section 751(c)(3)(B) of the Act and 19 CFR 351.218(e)(1)(ii)(C)(2), Commerce conducted expedited (120-day) sunset reviews of the Orders.

¹ See Initiation of Five-Year (Sunset) Reviews, 88 FR 6700 (February 1, 2023).

² See Fine Denier Polyester Staple Fiber from the People's Republic of China, India, the Republic of Korea, and Taiwan: Antidumping Duty Orders, 83 FR 34545 (July 20, 2018) (Orders).

³ The domestic interested parties are Auriga Polymers Inc.; Fiber Industries LLC; Nan Ya Plastics Corporation, America; and Sun Fiber LLC.

⁴ See Domestic Interested Parties' Letters, “Fine Denier Polyester Staple Fiber from India—Domestic Interested Parties' Notice of Intent to Participate,” dated February 15, 2023; “Fine Denier Polyester Staple Fiber from the People's Republic of China—Domestic Interested Parties' Notice of Intent to Participate,” dated February 15, 2023; “Fine Denier Polyester Staple Fiber from the Republic of Korea—Domestic Interested Parties' Notice of Intent to Participate,” dated February 15, 2023; and “Fine Denier Polyester Staple Fiber from Taiwan—Domestic Interested Parties' Notice of Intent to Participate,” dated February 15, 2023.

⁵ See Domestic Interested Parties' Letters, “Fine Denier Polyester Staple Fiber from India—Domestic Interested Parties' Substantive Response,” dated March 3, 2023; “Fine Denier Polyester Staple Fiber from the People's Republic of China—Domestic Interested Parties' Substantive Response,” dated March 2, 2023; “Fine Denier Polyester Staple Fiber from Korea—Domestic Interested Parties' Substantive Response,” dated March 3, 2023; and “Fine Denier Polyester Staple Fiber from Taiwan—Domestic Interested Parties' Substantive Response,” dated March 2, 2023.

⁶ Id.

⁷ See Commerce's Letter “Sunset Reviews Initiated on February 1, 2023,” dated March 23, 2023.

Scope of the Orders ⁸

⁸ See Orders.

The merchandise covered by the Orders is fine denier PSF, not carded or combed, measuring less than 3.3 decitex (3 denier) in diameter. The scope covers all fine denier PSF, whether coated or uncoated. For a complete description of the scope of the Order, see the Issues and Decision Memorandum.⁹

⁹ See Memorandum, “Issues and Decision Memorandum for the Final Results of the First Expedited Sunset Reviews of the Antidumping Duty Orders on Fine Denier Polyester Staple Fiber from India, the People's Republic of China, the Republic of Korea, and Taiwan,” dated concurrently with, and hereby adopted by, this notice (Issues and Decision Memorandum).

Analysis of Comments Received

A complete discussion of all issues raised in these sunset reviews, including the likelihood of continuation or recurrence of dumping and the magnitude of the dumping margins likely to prevail if the Orders were revoked, is provided in the Issues and Decision Memorandum. A list of the sections in the Issues and Decision Memorandum is in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Reviews

Pursuant to sections 751(c)(1) and 752(c)(1) and (3) of the Act, Commerce determines that revocation of the Orders would likely lead to continuation or recurrence of dumping, and that the magnitude of the dumping margins likely to prevail are weighted-average margins up to 103.06 percent for China, 21.43 percent for India, 45.23 percent for South Korea, and 48.86 percent for Taiwan.

Administrative Protective Order

This notice serves as the only reminder to parties subject to an administrative protective order (APO) of their responsibility concerning the return or destruction of proprietary information disclosed under APO in accordance with 19 CFR 351.305(a). Timely notification of the return or destruction of APO materials or conversion to judicial protective order, is hereby requested. Failure to comply with the regulations and terms of an APO is a violation which is subject to sanction.

Notification to Interested Parties

We are issuing and publishing these final results of sunset reviews in accordance with sections 751(c), 752(c), and 777(i)(1) of the Act, and 19 CFR 351.218(e)(1)(ii)(C)(2) and 19 CFR 351.221(c)(5)(ii).

Dated: May 30, 2023.
Lisa Wang,
Assistant Secretary for Enforcement and Compliance.

Appendix

Sections in the Issues and Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Sunset Reviews

VIII. Recommendation

[FR Doc. 2023-12260 Filed 6-7-23; 8:45 am]

BILLING CODE 3510-DS-P